DEPARTMENT OF LABOR

Employment and Training Administration

[TA-W-63,910]

Magna Services of America, Inc. Magna Aftermarket, Inc. A Subsidiary of Magna International Greenville, MI; Notice of Revised Determination on Reconsideration

On October 10, 2008, the Department issued an Affirmative Determination Regarding Application on Reconsideration applicable to workers and former workers of the subject firm. The notice was published in the Federal Register on October 22, 2008 (73 FR 63021).

The previous investigation initiated on August 20, 2008, resulted in a negative determination issued on September 3, 2008, was based on the finding that imports of outdoor home speakers and lights did not contribute importantly to worker separations at the subject firm and no shift in production to a foreign source occurred. The denial notice was published in the Federal Register on September 18, 2008 (73 FR 54174).

In the request for reconsideration, the petitioner provided additional information regarding imports of outdoor home speakers and lights and also requested the Department of Labor conduct further analysis of imports of outdoor home speakers and lights.

The Department reviewed a major customer's survey response conducted during the initial investigation. On further analysis, and contact with the customer it has been determined that the customer increased imports of outdoor home speakers and lights while decreasing their purchases from the subject firm during January through July 2008 over the corresponding 2007 period.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful review of the additional facts obtained on reconsideration, I conclude that increased imports of articles like or directly competitive with those produced at Magna Services of America, Inc., Magna Aftermarket, Inc., a subsidiary of Magna International, Greenville, Michigan, contributed importantly to the declines in sales or production and to the total or partial separation of workers at the subject firm. In accordance with the provisions of the Act, I make the following certification:

“All workers of Magna Services of America, Inc., Magna Aftermarket, Inc., a subsidiary of Magna International, Greenville, Michigan, who became totally or partially separated from employment on or after August 18, 2007, through two years from the date of this certification, are eligible to apply for adjustment assistance under Section 223 of the Trade Act of 1974, and are eligible to apply for alternative trade adjustment assistance under Section 246 of the Trade Act of 1974.”

Signed in Washington, DC this 5th day of November 2008.
Elliott S. Kushner,
Certifying Officer, Division of Trade Adjustment Assistance.

[FR Doc. E8-26891 Filed 11-12-08; 8:45 am]

BILLING CODE 4510-FN-P